DEPARTMENT OF ENERGY

Environmental Management Site-Specific Advisory Board, Nevada

AGENCY: Office of Environmental Management, Department of Energy.

ACTION: Notice of open meeting.

SUMMARY: This notice announces an in-person/virtual hybrid meeting of the Environmental Management Site-Specific Advisory Board (EM SSAB), Nevada. The Federal Advisory Committee Act requires that public notice of this meeting be announced in the Federal Register.

DATES: Wednesday, February 19, 2025; 4-8:30 p.m. PST; The opportunity for public comment is at 4:10 p.m. PST. This time is subject to change; please contact the Nevada Site Specific Advisory Board (NSSAB) Administrator (below) for confirmation of time prior to the meeting.

ADDRESSES: Molasky Corporate Center, 15th Floor Conference Room, 100 North City Parkway, Las Vegas, Nevada 89106. This meeting will be open to the public either in-person at the Molasky Corporate Center or virtually via Microsoft Teams. To attend virtually, please contact Barbara Ulmer, NSSAB Administrator, by email nssab@emcbc.doe.gov or phone (702) 523-0894, no later than 1 p.m. PST on Tuesday, February 18, 2025.

FOR FURTHER INFORMATION CONTACT: Barbara Ulmer, NSSAB Administrator, by phone: (702) 523-0894 or email: nssab@emcbc.doe.gov or visit the Board's internet homepage at www.nnss.gov/NSSAB/.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on any EM program components.

Tentative Agenda

1. Public Comment Period

2. Update from Deputy Designated Federal Officer

3. Update from National Nuclear Security Administration/Nevada Field Office

4. Updates from NSSAB Liaisons

5. Presentations to the Board

6. Planning for Spring EM SSAB National Chairs' Meeting

Public Participation: The in-person/online virtual hybrid meeting is open to the public either in-person at the Molasky Corporate Center or via Microsoft Teams. Written public comment may be filed with the NSSAB Administrator via email either before or after the meeting. Written comments received before 1 p.m. PST on Tuesday, February 18, 2025, will be provided to the board members prior to the meeting. Written comments will be accepted after the meeting until Friday, February 28, 2025. Please submit written comments to nssab@emcbc.doe.gov. Individuals who wish to make oral comments during the meeting can do so in 2-minute segments for the 15 minutes allotted for public comments. The Deputy Designated Federal Officer (DDFO) is empowered to conduct the meeting in a fashion that will facilitate the orderly conduct of business. Questioning of committee members or participants by the public is not permitted except with the approval of the DDFO and chairperson.

Minutes: Minutes will be available by writing or calling Barbara Ulmer, NSSAB Administrator, U.S. Department of Energy, EM Nevada Program, 100 North City Parkway, Suite 1750, Las Vegas, NV 89106; Phone: (702) 523-0894. Minutes will also be available at the following website: https://www.nnss.gov/nssab/nssab-meetings/.

Signing Authority: This document of the Department of Energy was signed on January 14, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on January 14, 2025.
Jennifer Hartzell,
Alternate Federal Register Liaison Officer, U.S. Department of Energy.

[FR Doc. 2025-01228 Filed 1-16-25; 8:45 am]

BILLING CODE 6450-01-P